DEPARTMENT OF DEFENSE

Office of the Secretary

[Docket ID DOD-2019-OS-0045]

Privacy Act of 1974; System of Records

AGENCY: Office of the Secretary, DoD.

ACTION: Rescindment of a System of Records Notice.

SUMMARY: The Office of the Secretary of Defense (OSD) is rescinding a system of records entitled Washington Headquarters Service (WHS) Living Disaster Recovery Planning System (LDRPS) Records, DWHS M01.

DATES: This action will be effective on April 30, 2019. The LDRPS system was decommissioned on October 4, 2016, the records retention schedules for these records have been met, and the records were destroyed in accordance with the approved retention schedule.

FOR FURTHER INFORMATION CONTACT: Mrs. Luz D. Ortiz, Chief, Records, Privacy and Declassification Division (RPDD), 1155 Defense Pentagon, Washington, DC 20301-1155, or by phone at (571) 372-0478.

SUPPLEMENTARY INFORMATION: This system of records was used to assist WHS notify personnel during Continuity of Operations Program (COOP) exercises or events and to match key personnel with essential functions. The WHS COOP functions were transferred to the Pentagon Force Protection Agency (PFPA) and are covered by system of records notice “Pentagon Facilities Emergency and Incident Notification Records (PINS),” DPFPA 03. Therefore, this system of records notice (SORN) can be deleted.

The OSD SORNs subject to the Privacy Act of 1974 (5 U.S.C. 552a), as amended, have been published in the Federal Register and are available from the address in FOR FURTHER INFORMATION CONTACT or at the Defense Privacy, Civil Liberties and Transparency Division website at http://defense.gov/privacy.

The proposed systems reports, as required by the Privacy Act of 1974, as amended, were submitted on January 9, 2019, to the House Committee on Oversight and Government Reform, the Senate Committee on Homeland Security and Governmental Affairs, and the Office of Management and Budget (OMB) pursuant to Section 6 to OMB Circular No. A-108, “Federal Agency Responsibilities for Review, Reporting, and Publication under the Privacy Act,” revised December 23, 2016 (December 23, 2016, 81 FR 94424).

System Name and Number

Washington Headquarters Service (WHS) Living Disaster Recovery Planning System (LDRPS) Records, DWHS M01.

HISTORY:

April 9, 2014, 79 FR 19587.

Dated: April 25, 2019.
Aaron T. Siegel,
Alternate OSD Federal Register Liaison Officer, Department of Defense.

[FR Doc. 2019-08751 Filed 4-29-19; 8:45 am]

BILLING CODE 5001-06-P